DEPARTMENT OF HOUSING AND URBAN DEVELOPMENT

[Docket No. FR-7011-N-44]

30-Day Notice of Proposed Information Collection: Ginnie Mae Mortgage-Backed Securities Guide 5500.3, Revision 1 (Forms and Electronic Data Submissions) (OMB# 2503-0033)

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: November 20, 2019.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on July 19, 2019.

A. Overview of Information Collection

Title of Information Collection: Ginnie Mae Mortgage-Backed Securities Guide 5500.3, Revision 1 (Forms and Electronic Data Submissions).

OMB Approval Number: 2503-0033.

Type of Request: Extension of currently approved collection.

Form Number: Listed below.

Description of the Need for the Information and Proposed Use: Ginnie Mae's Mortgage-Backed Securities Guide 5500.3, (“Guide”) provides instructions and guidance to participants in the Ginnie Mae Mortgage-Backed Securities (“MBS”) programs (“Ginnie Mae I and Ginnie Mae II”). Under the Ginnie Mae I program, securities are backed by single-family or multifamily loans. Under the Ginnie Mae II program securities are only backed by single-family loans. Both the Ginnie Mae I and II MBS are modified pass-through securities. The Ginnie Mae II multiple Issuer MBS is structured so that small issuers, who do not meet the minimum number of loans and dollar amount requirements of the Ginnie Mae I MBS, can participate in the secondary mortgage market. In addition, the Ginnie Mae II MBS permits the securitization of adjustable rate mortgages (“ARMs”).

Form | Appendix No. | Title | Number of respondents | Frequency of responses per year | Total annual responses | Hours per response | Total annual hours | Hourly cost per response | Estimated annual cost to respondents (issuers)
11700 | II-1 | Letter of Transmittal for Commitment Authority and/or Pool Numbers | 368.00 | 4.00 | 1,472.00 | 0.03 | 44.16 | 29.00 | $1,280.64
11701 | I-1 | Application for Approval Ginnie Mae Mortgage-Backed Securities Issuer | 15.00 | 1.00 | 15.00 | 3.00 | 45.00 | 29.00 | 1,305.00
11702 | I-2 | Resolution of Board of Directors and Certificate of Authorized Signatures | 423.00 | 1.00 | 423.00 | 0.08 | 33.84 | 29.00 | 981.36
11703-II | I-7 | Master Agreement for Participation Accounting | 17.00 | 1.00 | 17.00 | 0.08 | 1.36 | 29.00 | 39.44
11704 | II-2 | Commitment to Guaranty Mortgage-Backed Securities | 368.00 | 4.00 | 1,472.00 | 0.03 | 44.16 | 29.00 | 1,280.64
11707 | III-1 | Master Servicing Agreement | 423.00 | 1.00 | 423.00 | 0.02 | 8.46 | 29.00 | 245.34
11709 | III-2 | Master Agreement for Servicer's Principal and Interest Custodial Account | 423.00 | 1.00 | 423.00 | 0.03 | 12.69 | 29.00 | 368.01
11715 | III-4 | Master Custodial Agreement | 423.00 | 1.00 | 423.00 | 0.03 | 12.69 | 29.00 | 368.01
11720 | III-3 | Master Agreement for Servicer's Escrow Custodial Account | 3,428.00 | 1.00 | 3,428.00 | 0.02 | 68.56 | 29.00 | 1,988.24
11732 | III-22 | Custodian's Certification for Construction Securities | 55.00 | 1.00 | 55.00 | 0.02 | 1.10 | 29.00 | 31.90
| VI-20 | Electronic Submission of Issuers' Insurance and Annual Audited Financial Documents | 423.00 | 1.00 | 423.00 | 1.00 | 423.00 | 29.00 | 12,267.00
11750 |  | Mortgage Bankers Financial Reporting Form | 368.00 | 4.00 | 1,472.00 | 0.17 | 250.24 | 29.00 | 7,256.96
11709-A | I-6 | ACH Debit Authorization | 423.00 | 1.00 | 423.00 | 0.03 | 12.69 | 29.00 | 368.01
11710 D | VI-5 | Issuer's Monthly Summary Reports | 368.00 | 12.00 | 4,416.00 | 0.13 | 574.08 | 29.00 | 16,648.32
| VI-21 | HMBS issuer's Monthly Summary Report | 16.00 | 12.00 | 192.00 | 0.08 | 14.40 | 29.00 | 417.60
| III-13 | Electronic Data Interchage System Agreement | 15.00 | 1.00 | 15.00 | 0.03 | 0.45 | 29.00 | 13.05
| I-4 | Cross Default Agreement | 10.00 | 1.00 | 10.00 | 0.05 | 0.50 | 29.00 | 14.50
| VI-18 | WHFIT Reporting | 368.00 | 4.00 | 1,472.00 | 0.13 | 191.36 | 29.00 | 5,549.44
| III-29 | System Access Forms | 277.00 | 1.00 | 277.00 | 2.00 | 554.00 | 29.00 | 16,066.00
| VIII-1 | Ginnie Mae Acknowledgement Agreement and Accompanying Documents Pledge of Servicing | 10.00 | 1.00 | 10.00 | 1.00 | 10.00 | 29.00 | 290.00
| VI-14 | Multifamily Prepayment Penalty Record File Layout | 40.00 | 12.00 | 480.00 | 0.05 | 24.00 | 29.00 | 696.00
| VI-16 | Quarterly Custodial Account Verification Record File Layout | 368.00 | 4.00 | 1,472.00 | 0.17 | 250.24 | 29.00 | 7,256.96
| VI-17 | HMBS Issuer Pooling & Reporting Specification for Mortgage-Backed Securities Administration Agent | 16.00 | 12.00 | 192.00 | 0.13 | 24.96 | 29.00 | 723.84
| VI-19 | Monthly Pool and Loan Level Report (RFS) | 368.00 | 12.00 | 4,416.00 | 4.00 | 17,664.00 | 29.00 | 512,256.00
The burden for the items listed below is based on volume and/or number of requests
11705 | III-6 | Schedule of Subscribers and Ginnie Mae Guaranty Agreement | 5,591.00 | 12.00 | 67,092.00 | 0.05 | 3,354.60 | 29.00 | 97,283.40
11706 | III-7 | Schedule of Pooled Mortgages | 5,591.00 | 12.00 | 67,092.00 | 0.08 | 5,367.36 | 29.00 | 155,653.44
11705 H, 11706 H | III-28 | Schedule of Subscribers and Ginnie Mae Guaranty Agreement—HMBS Pooling Import File Layout | 74.00 | 12.00 | 888.00 | 0.10 | 88.80 | 29.00 | 2,575.20
| V-5 | Document Release Request | 3,181.00 | 1.00 | 3,181.00 | 0.05 | 159.05 | 29.00 | 4,612.45
| XI-6, XI-8, XI-9 | SSCRA Loan Eligibility Information Solders' and Sailors' Quarterly Reimbursement Request SSCRA Eligibility and Reimbursement Files | 1,350.00 | 4.00 | 5,400.00 | 0.10 | 540.00 | 29.00 | 15,660.00
11711A and 11711B | III-5 | Release of Security Interest and Certification and Agreement | 5,591.00 | 12.00 | 67,092.00 | 0.10 | 6,709.20 | 29.00 | 194,566.80
11714, 11714SN | VI-10, VI-11 | Issuer's Monthly Remittance Advice Issuer's Monthly Serial Note Remittance Advice | 3,975.00 | 12.00 | 56,400.00 | 0.03 | 1,692.00 | 29.00 | 49,068.00
| VI-2 | Letter for Loan Repurchase | 50.00 | 12.00 | 600.00 | 0.03 | 18.00 | 29.00 | 522.00
| III-21 | Certification Requirements for the Pooling of Multifamily Mature Loan Program | 322.00 | 1.00 | 322.00 | 0.03 | 9.66 | 29.00 | 280.14
| VI-9 | Request for Reimbursement of Mortgage Insurance Claim Costs for Multifamily Loans | 3.00 | 12.00 | 36.00 | 0.08 | 2.88 | 29.00 | 83.52
| VIII-3 | Assignment Agreements | 220.00 | 1.00 | 220.00 | 0.13 | 28.60 | 29.00 | 829.40
Total |  |  |  | Varies | 291,744.000 | Varies | 38,236.09 |  | $ 1,108,846.61

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: October 16, 2019.
Anna P. Guido,
Department Reports Management Officer, Office of the Chief Information Officer.

[FR Doc. 2019-22918 Filed 10-18-19; 8:45 am]

BILLING CODE 4210-67-P